DEPARTMENT OF TRANSPORTATION

Surface Transportation Board

[STB Finance Docket No. 34368]

Douglas S. Golden—Acquisition of Control Exemption—Carolina Coastal Railway, Inc.

Douglas S. Golden (Golden), a noncarrier individual, has filed a notice of exemption to acquire control, through stock purchase from Rail Link, Inc. (Rail Link), of Carolina Coastal Railway, Inc. (CLNA), a Class III railroad.¹

¹ CLNA is an indirect wholly owned subsidiary of noncarrier Genesee & Wyoming Inc., which acquired control of CLNA with its acquisition of control of noncarrier Rail Link. See Genesee & Wyoming Inc.—Control Exemption—Rail Link, Inc., STB Finance Docket No. 33291 (STB served Nov. 18, 1996). Golden already controls, through stock ownership, Landisville Terminal and Transfer Company, a Class III rail carrier.

The transaction was scheduled to be consummated on or about July 21, 2003.

Golden states that: (i) The railroads he would control will not connect; (ii) the transaction is not part of a series of anticipated transactions that would connect these railroads with each other or any railroad in their corporate family; and (iii) the transaction does not involve a Class I carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under sections 11324 and 11325 that involve only Class III rail carriers. Accordingly, the Board may not impose labor protective conditions here, because all of the carriers involved are Class III carriers.

If the notice contains false or misleading information, the exemption is void ab initio. Petitions to revoke the exemption under 49 U.S.C. 10502(d) may be filed at any time. The filing of a petition to revoke will not stay the transaction.

An original and 10 copies of all pleadings, referring to STB Finance Docket No. 34368, must be filed with the Surface Transportation Board, 1925 K Street, NW., Washington, DC 20423-0001. In addition, a copy of each pleading must be served on: John K. Fiorilla, 390 George Street, P.O. Box 1185, New Brunswick, NJ 08903.

Board decisions and notices are available on our Web site at www.stb.dot.gov.

Decided: August 7, 2003.
By the Board, David M. Konschnik, Director, Office of Proceedings.
Vernon A. Williams,
Secretary.

[FR Doc. 03-20589 Filed 8-13-03; 8:45 am]

BILLING CODE 4915-00-P